LIBRARY OF CONGRESS

Copyright Office

37 CFR Parts 202, 203, and 211

[Docket No. 2011-4]

Registration and Recordation Program

AGENCY: Copyright Office, Library of Congress.

ACTION: Final rule; technical amendments.

SUMMARY: The Copyright Office is making non-substantive amendments to its regulations to reflect a reorganization that has moved the Recordation function from the Visual Arts and Recordation Division of the Registration and Recordation Program to the Information and Records Division. As a result of this reorganization, the name of the Registration and Recordation Program has been changed to the Registration Program.

DATES: Effective Date: May 13, 2011.

FOR FURTHER INFORMATION CONTACT: Elizabeth Scheffler, Chief Operating Officer, Copyright GC/I&R, P.O. Box 70400, Washington, DC 20024. Telephone: (202) (707-8350). Telefax: (202) (707-8366).

SUPPLEMENTARY INFORMATION: On February 13, 2011, the Copyright Office implemented a reorganization, commenced in December 2010, that moved the recordation function from the Visual Arts and Recordation Division of the Registration and Recordation Program to the Information and Records Division. As a result of the reorganization, the Registration and Recordation Program has been renamed the Registration Program. The Documents Recordation Team, which was part of the Visual Arts Division of the Registration and Recordation Program, has been renamed the Recordation Section of the Information and Records Division.

The Recordation Section processes the recordation of transfers of copyright ownership and other documents pertaining to a copyright under section 205 of the Copyright Act, the recordation of notices of termination of transfers and licenses under sections 203 and 304(c) and (d) of the Copyright Act, and designations of agents of online service providers to receive notification of claims of infringement under section 512(c) of the Copyright Act.

This reorganization better aligns and leverages the skill sets of Recordation staff with similar skill sets required of staff in the Records Research and Certification Section of the Information and Records Division. The Office believes that the reorganization will result in timelier processing of recordations and make the public record available in a more timely fashion.

Parts 202, 203, and 211 of the Copyright Office Regulations currently refer to the Registration and Recordation Program. In order to reflect the change in the name of the Program, the provisions of those parts of the regulations that refer to the Program are being amended to refer to the Registration Program. In addition, a typographical error in § 203.3(b)(2) is being corrected.

List of Subjects

37 CFR Part 202

Copyright registration.

37 CFR Part 203

Freedom of Information Act.

37 CFR Part 211

Mask work.

Final Rule

Accordingly, 37 CFR Chapter II is amended by making the following technical corrections and amendments:

PART 202—PREREGISTRATION AND REGISTRATION OF CLAIMS TO COPYRIGHT

1. The authority citation for part 202 continues to read as follows:

Authority: 17 U.S.C. 408(f), 702.

§ 202.5 [Amended]

2. Amend § 202.5 by removing “Registration and Recordation Program″ each place it appears and adding in its place “Registration Program″.

§ 202.12 [Amended]

3. Amend § 202.12(c)(4)(vi) by removing “Registration and Recordation Program″ and adding in its place “Registration Program″.

§ 202.19 [Amended]

4. Amend § 202.19(e)(3) by removing “Registration and Recordation Program″ and adding in its place “Registration Program″.

§ 202.20 [Amended]

5. Amend § 202.20 by removing “Registration and Recordation Program″ each place it appears and adding in its place “Registration Program″.

§ 202.21 [Amended]

6. Amend § 202.21(h) introductory text by removing “Registration and Recordation Program″ and adding in its place “Registration Program″.

PART 203—FREEDOM OF INFORMATION ACT: POLICIES AND PROCEDURES

7. The authority citation for part 203 continues to read as follows:

Authority: 17 U.S.C. 702, 5 U.S.C. 552.

§ 203.3 [Amended]

8. Amend § 203.3 as follows:

a. In paragraphs (b)(2) and (3) by removing “Registration and Recordation Program″ and adding in its place “Registration Program″; and

b. In paragraph (b)(2), by removing “coyrightable″ and adding “copyrightable″ in its place.

PART 211—MASK WORK PROTECTION

9. The authority citation for part 211 continues to read as follows:

Authority: 17 U.S.C. 702, 908.

§ 211.5 [Amended]

10. Amend § 211.5(d) by removing “Registration and Recordation Program″ and adding in its place “Registration Program″.

Dated: May 4, 2011.
Maria A. Pallante,
Acting Register of Copyrights.
Approved by:
James H. Billington,
The Librarian of Congress.

[FR Doc. 2011-11719 Filed 5-12-11; 8:45 am]

BILLING CODE 1410-30-P